DEPARTMENT OF AGRICULTURE

Forest Service

Black Hills National Forest's Custer County Resource Advisory Committee; Meeting

AGENCY: Forest Service, USDA.

ACTION: Notice of meeting.

SUMMARY: Pursuant to authorities in the Federal Advisory Committee Act (Pub. L. 92-463) and the Secure Rural Schools and Community Self determination Act of 2000 (Pub. L. 106-393), the Black Hills National Forest's Custer County Resource Advisory Committee will meet on Tuesday, September 12, 2006 in Custer, South Dakota for a business meeting. The meeting is open to the public.

SUPPLEMENTARY INFORMATION: The business meeting on September 12, 2006, will begin at 6 p.m. at the Black Hills National Forest Supervisor's office at 25041 North Highway 16, Custer, South Dakota. Agenda topics will include discussion of potential projects.

FOR FURTHER INFORMATION CONTACT: Mike Lloyd, Hell Canyon District Ranger and Designated Federal Officer, at 605-673-4853.

Dated: August 25, 2006.
Michael D. Lloyd,
District Ranger.

[FR Doc. 06-7368 Filed 8-30-06; 8:45 am]

BILLING CODE 3410-11-M